DEPARTMENT OF DEFENSE

Department of the Army

Final Environmental Impact Statement (FEIS) for Yuma Proving Ground, AZ

AGENCY: Yuma Proving Ground, Department of the Army, DoD.

ACTION: Notice of availability.

SUMMARY: This announces the availability of the Yuma Proving Ground FEIS. The FEIS is programmatic in nature and discloses impacts associated with direct, indirect, and cumulative effects of the proposed action under a range of alternatives. New programs require land use changes and construction of new facilities and military ranges. Examples of new programs that resulted in this action include: combat systems testing and troop training. Activities to support this action include modernization of outdated facilities, improvements to infrastructure, installation of utilities, and land use changes.

DATES: The public review period for this FEIS will end 30 days after publication of the Notice of Availability in the Federal Register by the U.S. Environmental Protection Agency.

ADDRESSES: Anyone wishing to receive a copy of this FEIS may send a postcard with their name and address to Commander, Yuma Proving Ground, Environmental Sciences Division, ATTN: STEYP-CD-ES (Mr. Junior Kerns), Yuma Proving Ground, AZ 85365. Requests may also be submitted electronically to: jkerns@yuma-exch1.army.mil.

FOR FURTHER INFORMATION CONTACT: Mr. Junior Kerns at (800) 330-1348 or (520) 328-2148.

SUPPLEMENTARY INFORMATION: The EIS's proposed action and alternatives are described below:

Proposed Action: The proposed action is the conversion of Yuma Proving Ground from a traditional Army test installation to a diversified, multipurpose test range. The multipurpose installation will integrate troop training and other mission-compatible uses with research, development, test, and evaluation activities as indicated in the Installation Master Plan and other planning documents. This proposed action supports the defense mission of the United States to maintain a prepared and technologically advanced military.

Alternatives Considered: Five alternatives were considered in the Draft EIS: Maintain Baseline Activity Levels (No Action), Decreased Military Mission, Increased Military Mission, Modified Nonmilitary Mission, and Diversified Mission. The Preferred Alternative was developed after public and agency comments on the Draft EIS were considered. Impacts of the alternatives are disclosed in accordance with the National Environmental Policy Act. The Preferred Alternative is analyzed in the FEIS.

Dated: July 11, 2001.
Raymond J. Fatz,
Deputy Assistant Secretary of the Army (Environment, Safety and Occupational Health), OASA (I&E).

[FR Doc. 01-17706 Filed 7-13-01; 8:45 am]

BILLING CODE 3710-08-M